NUCLEAR REGULATORY COMMISSION

[Docket Nos. 52-027 and 52-028; NRC-2008-0441]

Virgil C. Summer Nuclear Station, Units 2 and 3; South Carolina Electric & Gas Company; South Carolina Public Service Authority; Increased Concrete Thickness Tolerance for Column Line J-1 and J-2 Walls Above 66′6″

AGENCY: Nuclear Regulatory Commission.

ACTION: Exemption and combined license amendment; issuance.

SUMMARY: The U.S. Nuclear Regulatory Commission (NRC) is granting an exemption to allow a change to the certification information of Tier 1 of the generic design control document (DCD) and issuing License Amendment No. 47 to Combined Licenses (COL), NPF-93 and NPF-94. The COLs were issued to the South Carolina Electric & Gas Company (SCE&G) and the South Carolina Public Service Authority (together called the licensee) in March 2012, for the construction and operation of the Virgil C. Summer Nuclear Station (VCSNS), Units 2 and 3, located in Fairfield County, South Carolina. The granting of the exemption allows the changes to Tier 1 information requested in the license amendment request. Because the acceptability of the exemption was determined in part by the acceptability of the amendment, the exemption and amendment are being issued concurrently.

DATES: The exemption and combined license amendment referenced in this document are available on July 22, 2016.

ADDRESSES: Please refer to Docket ID NRC-2008-0441 when contacting the NRC about the availability of information regarding this document. You may obtain publicly-available information related to this document using any of the following methods:

• Federal Rulemaking Web site: Go to http://www.regulations.gov and search for Docket ID NRC-2008-0441. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-Based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. The request for the amendment and exemption was submitted by the letter dated January 14, 2016 (ADAMS Accession No. ML16015A058). The licensee supplemented this request by letter dated February 22, 2016 (ADAMS Accession No. ML16053A405).

• NRC's PDR: You may examine and purchase copies of public documents at the NRC's PDR, One White Flint North, 11555 Rockville Pike, Rockville, Maryland 20852. Specific information on NRC's PDR is available at http://www.nrc.gov/reading-rm/pdr.html.

FOR FURTHER INFORMATION CONTACT: William (Billy) Gleaves, Sr. Project Manager, Office of New Reactors, U.S. Nuclear Regulatory Commission, Washington, DC 20555-0001; telephone: 301-415-5848; email: Bill.Gleaves@nrc.gov.

SUPPLEMENTARY INFORMATION:

I. Introduction

In a letter dated January 14, 2016, and revised on February 22, 2016, the licensee requested a license amendment and exemption (ADAMS Accession Nos. ML16015A058 and ML16053A405). The NRC is granting an exemption from Tier 1 information in the certified DCD incorporated by reference in part 52 of title 10 of the Code of Federal Regulations (10 CFR), appendix D, “Design Certification Rule for the AP1000 Design,” and issuing License Amendment No. 47 to COLs NPF-93 and NPF-94. The exemption is required by paragraph A.4 of section VIII, “Processes for Changes and Departures,” appendix D to 10 CFR part 52 to allow the licensee to change Tier 1 information. With the requested amendment, the licensee sought proposed changes related to the plant-specific Tier 1 information. The Tier 1 information for which a plant-specific exemption is being requested includes plant-specific Tier 1, Table 3.3-1 to change the tolerance for the concrete thickness of the column line J-1 and J-2 walls from ±1 inch to a tolerance of −1 inch and +4 inch for a length of 24 inches at the interface of these reinforced concrete walls to structural module connections at the column line 4 structural module wall (i.e., the north wall of the CA20 module) and authorizes changes to COL Updated Final Safety Analysis Report (UFSAR) Subsection 3.8.4.1.2 to provide a basis for the revision to plant-specific Tier 1 information. The license amendment request contained proposed changes to plant-specific Tier 1, COL Appendix C, and UFSAR Tier 2 text.

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in 10 CFR 50.12, 10 CFR 52.7, and 10 CFR 52.63(b)(1). The license amendment was found to be acceptable as well. The combined safety evaluation is available in ADAMS under Accession No. ML16099A189.

Identical exemption documents (except for referenced unit numbers and license numbers) were issued to the licensee for VCSNS Units 2 and 3 (COLs NPF-93 and NPF-94). These documents can be found in ADAMS under Accession Nos. ML16099A308 and ML16099A311, respectively. The exemption is reproduced (with the exception of abbreviated titles and additional citations) in Section II of this document. The amendment documents for COLs NPF-93 and NPF-94 are available in ADAMS under Accession Nos. ML16099A304 and ML16099A257, respectively. A summary of the amendment documents is provided in Section III of this document.

II. Exemption

The following is the exemption document issued to VCSNS, Units 2 and 3. It makes reference to the combined safety evaluation that provides the reasoning for the findings made by the NRC (and listed under Item 1) in order to grant the exemption:

1. In a letter dated January 14, 2016, and revised by letter dated February 11, 2016, the South Carolina Electric & Gas Company (SC&G/licensee) requested from the Nuclear Regulatory Commission (NRC/Commission) an exemption to allow changes from Tier 1 information in the plant-specific Tier 1 to the certified AP1000 Design, Tier 1 information, incorporated by reference in title 10 of the Code of Federal Regulations (10 CFR) part 52, appendix D, “Design Certification Rule for the AP1000 Design,” as part of license amendment request (LAR) 15-20, “Increased Concrete Thickness Tolerance for Column Line J-1 and J-2 Walls above 66′-6″.”

For the reasons set forth in Section 3.1 of the NRC staff's Safety Evaluation that supports this license amendment, which can be found at Agencywide Documents Access and Management System (ADAMS) Accession Number ML16099A189, the Commission finds that:

A. The exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption, and

F. the exemption will not result in a significant decrease in the level of safety otherwise provided by the design.

2. Accordingly, the licensee is granted an exemption from the certified AP1000 Design Control Document Tier 1 information, as described in the licensee's request dated January 14, 2016, and revised by letter dated February 11, 2016. This exemption is related to, and necessary for, the granting of License Amendment No. 47, which is being issued concurrently with this exemption.

3. As explained in Section 5 of the NRC staff's Safety Evaluation that supports this license amendment (ADAMS Accession Number ML16099A189), this exemption meets the eligibility criteria for categorical exclusion set forth in 10 CFR 51.22(c)(9). Therefore, pursuant to 10 CFR 51.22(b), no environmental impact statement or environmental assessment needs to be prepared in connection with the issuance of the exemption

4. This exemption is effective as of the date of its issuance.

III. License Amendment Request

The request for the amendment and exemption was submitted by the letter dated January 14, 2016, and supplemented by letter dated February 11, 2016. The proposed amendment is described in Section I.

The Commission has determined for these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register on March 10, 2016 (81 FR 12751). No comments were received during the 30-day comment period.

The NRC staff has found that the amendment involves no significant hazards consideration. The Commission has determined that these amendments satisfy the criteria for categorical exclusion in accordance with 10 CFR 51.22(c)(9). Therefore, pursuant to 10 CFR 51.22(b), no environmental impact statement or environmental assessment need be prepared for these amendments. The supplement, dated February 11, 2016, provided additional information that clarified the application, did not expand the scope of the application as originally noticed, and did not change the staff's original proposed no significant hazards consideration determination as published in the Federal Register.

IV. Conclusion

Using the reasons set forth in the combined safety evaluation, the staff granted the exemption and issued the amendment that the licensee requested on January 14, 2016, and supplemented by letter dated February 11, 2016. The exemption and amendment were issued on March 31, 2015, as part of a combined package to the licensee (ADAMS Accession No. ML16099A153).

Dated at Rockville, Maryland, this 11th day of July 2016.
For the Nuclear Regulatory Commission.
Jennifer Dixon-Herrity,
Acting Chief, Licensing Branch 4, Division of New Reactor Licensing, Office of New Reactors.

[FR Doc. 2016-17387 Filed 7-21-16; 8:45 am]

BILLING CODE 7590-01-P